DEPARTMENT OF TRANSPORTATION

Federal Aviation Administration

Commercial Space Transportation Advisory Committee Working Group—Meeting Notice

AGENCY: Federal Aviation Administration (FAA), DOT.

ACTION: Notice of Commercial Space Transportation Advisory Committee Reusable Launch Vehicle Working Group Telephone Conference.

SUMMARY: Pursuant to Section 10(a)(2) of the Federal Advisory Committee Act (Pub. L. 92-463, 5 U.S.C. App. 2), and 5 U.S.C. 552b(c), notice is hereby given of a telephone conference for the Reusable Launch Vehicle Working Group (RLVWG) of the Commercial Space Transportation Advisory Committee (COMSTAC). The main issue for discussion will be the formation of a group within the RLVWG to examine training standards for crew and space flight participants. The telephone conference will take place on Friday, October 5, 2007 starting at 9:30 Eastern Daylight Time. For the call-in telephone number and the passcode, contact the Contact Person listed below.

FOR FURTHER INFORMATION CONTACT: Brenda Parker (AST-100), FAA Office of Commercial Space Transportation (AST), 800 Independence Avenue, SW., Room 331, Washington, DC 20591, telephone (202) 267-3674; e-mail: brenda.parker@faa.dot.gov.

Issued in Washington, DC, September 19, 2007.
Patricia G. Smith,
Associate Administrator for Commercial Space Transportation.

[FR Doc. E7-18932 Filed 9-25-07; 8:45 am]

BILLING CODE 4910-13-P